DEPARTMENT OF ENERGY

Federal Energy Regulatory Commission

Combined Notice of Filings #2

Take notice that the Commission received the following electric corporate filings:

Docket Numbers: EC18-70-000.

Applicants: NRG Wholesale Generation LP, Kestrel Acquisition, LLC.

Description: Application for Authorization under Section 203 of the Federal Power Act of NRG Wholesale Generation LP, et al.

Filed Date: 3/15/18.

Accession Number: 20180315-5109.

Comments Due: 5 p.m. ET 4/5/18.

Take notice that the Commission received the following exempt wholesale generator filings:

Docket Numbers: EG18-56-000.

Applicants: Kestrel Acquisition, LLC.

Description: Self-Certification of Exempt Wholesale Generator Status of Kestrel Acquisition, LLC.

Filed Date: 3/15/18.

Accession Number: 20180315-5078.

Comments Due: 5 p.m. ET 4/5/18.

Take notice that the Commission received the following electric rate filings:

Docket Numbers: ER13-1966-002.

Applicants: NRG Wholesale Generation LP.

Description: Compliance filing: Informational Filing Regarding Upstream Change in Control and Request for Waiver to be effective N/A.

Filed Date: 3/15/18.

Accession Number: 20180315-5127.

Comments Due: 5 p.m. ET 4/5/18.

Docket Numbers: ER18-839-001.

Applicants: Arizona Public Service Company.

Description: Tariff Amendment: Refile Rate Schedule No. 290 to be effective 4/11/2018.

Filed Date: 3/15/18.

Accession Number: 20180315-5001.

Comments Due: 5 p.m. ET 4/5/18.

Docket Numbers: ER18-1091-000.

Applicants: Southwest Power Pool, Inc.

Description: Notice of Cancellation of Southwest Power Pool, Inc. of Non-Firm Point-To-Point Transmission Service Agreement (No. 496).

Filed Date: 3/15/18.

Accession Number: 20180315-5038.

Comments Due: 5 p.m. ET 4/5/18.

Docket Numbers: ER18-1092-000.

Applicants: Midcontinent Independent System Operator, Inc.

Description: § 205(d) Rate Filing: 2018-03-15 SA 3104 ENO-ENO GIA (J481) to be effective 3/1/2018.

Filed Date: 3/15/18.

Accession Number: 20180315-5045.

Comments Due: 5 p.m. ET 4/5/18.

Docket Numbers: ER18-1093-000.

Applicants: Southwest Power Pool, Inc.

Description: § 205(d) Rate Filing: 1266R10 Kansas Municipal Energy Agency NITSA and NOA to be effective 3/1/2018.

Filed Date: 3/15/18.

Accession Number: 20180315-5046.

Comments Due: 5 p.m. ET 4/5/18.

Docket Numbers: ER18-1094-000.

Applicants: Florida Power & Light Company.

Description: § 205(d) Rate Filing: FPL Revisions to LCEC Rate Schedule No. 317 to be effective 1/1/2016.

Filed Date: 3/15/18.

Accession Number: 20180315-5048.

Comments Due: 5 p.m. ET 4/5/18.

Docket Numbers: ER18-1095-000.

Applicants: Florida Power & Light Company.

Description: § 205(d) Rate Filing: FPL Revisions to FKEC Rate Schedule No. 322 to be effective 1/1/2016.

Filed Date: 3/15/18.

Accession Number: 20180315-5049.

Comments Due: 5 p.m. ET 4/5/18.

Docket Numbers: ER18-1098-000.

Applicants: California Independent System Operator Corporation.

Description: § 205(d) Rate Filing: 2018-03-15 Second Amendment to ABAOA with Arizona Public Service to be effective 5/15/2018.

Filed Date: 3/15/18.

Accession Number: 20180315-5069.

Comments Due: 5 p.m. ET 4/5/18.

Docket Numbers: ER18-1102-000.

Applicants: Pacific Gas and Electric Company.

Description: § 205(d) Rate Filing: 3-15-18 Unexecuted Agreement, City and County of San Francisco WDT SA (SA 275) to be effective 5/14/2018.

Filed Date: 3/15/18.

Accession Number: 20180315-5075.

Comments Due: 5 p.m. ET 4/5/18.

Docket Numbers: ER18-1106-000.

Applicants: Kestrel Acquisition, LLC.

Description: Baseline eTariff Filing: Baseline new to be effective 5/15/2018.

Filed Date: 3/15/18.

Accession Number: 20180315-5086.

Comments Due: 5 p.m. ET 4/5/18.

Docket Numbers: ER18-1110-000.

Applicants: Southwest Power Pool, Inc.

Description: § 205(d) Rate Filing: 1795 Oklahoma Gas and Electric Company PTP Notice of Cancellation to be effective 6/1/2014.

Filed Date: 3/15/18.

Accession Number: 20180315-5105.

Comments Due: 5 p.m. ET 4/5/18.

Docket Numbers: ER18-1116-000.

Applicants: PJM Interconnection, L.L.C.

Description: § 205(d) Rate Filing: Original ISA, SA No. 4958; Queue No. AC1-035 to be effective 2/13/2018.

Filed Date: 3/15/18.

Accession Number: 20180315-5126.

Comments Due: 5 p.m. ET 4/5/18.

Take notice that the Commission received the following electric reliability filings

Docket Numbers: RD18-3-000.

Applicants: North American Electric Reliability Corporation, Western Electricity Coordinating Council.

Description: Joint Petition of the North American Electric Reliability Corporation and Western Electricity Coordinating Council for Approval of Retirement of Regional Reliability Standard PRC-004-WECC-2.

Filed Date: 3/9/18.

Accession Number: 20180309-5269.

Comments Due: 5 p.m. ET 4/16/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 15, 2018.
Nathaniel J. Davis, Sr.,
Deputy Secretary.

[FR Doc. 2018-05672 Filed 3-20-18; 8:45 am]

BILLING CODE 6717-01-P